DEPARTMENT OF THE TREASURY

Office of Foreign Assets Control

Unblocking of Five (5) Individuals as Specially Designated Global Terrorists Pursuant to Executive Order 13224

AGENCY: Office of Foreign Assets Control, Treasury.

ACTION: Notice.

SUMMARY: The Treasury Department's Office of Foreign Assets Control (“OFAC”) is removing the names of five (5) individuals, whose property and interests in property have been blocked pursuant to Executive Order 13224 of September 23, 2001, Blocking Property and Prohibiting Transactions With Persons Who Commit, Threaten To Commit, or Support Terrorism, from the list of Specially Designated Nationals and Blocked Persons (“SDN List”).

DATES: The removal of these five (5) individuals from the SDN List is effective as of February 5, 2013.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

The SDN List and additional information concerning OFAC are available from OFAC's web site (www.treasury.gov/ofac). Certain general information pertaining to OFAC's sanctions programs also is available via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional persons or entities determined to meet certain criteria set forth in Executive Order 13224.

The Department of the Treasury's Office of Foreign Assets Control has determined that these individuals should be removed from the SDN List.

The following individuals are removed from the SDN List:

Individuals

1. ALI, Abbas Abdi, Mogadishu, Somalia (individual) [SDGT].

2. MSALAM, Fahid Mohammed Ally (a.k.a. AL-KINI, Usama; a.k.a. ALLY, Fahid Mohammed; a.k.a. MSALAM, Fahad Ally; a.k.a. MSALAM, Fahid Mohammed Ali; a.k.a. MSALAM, Mohammed Ally; a.k.a. MUSALAAM, Fahid Mohammed Ali; a.k.a. SALEM, Fahid Muhamad Ali); DOB 19 Feb 1976; POB Mombasa, Kenya; citizen Kenya (individual) [SDGT].

3. ATWAH, Muhsin Musa Matwalli (a.k.a. ABDEL RAHMAN; a.k.a. ABDUL RAHMAN; a.k.a. AL-MUHAJIR, Abdul Rahman; a.k.a. AL-NAMER, Mohammed K.A.), Afghanistan; DOB 19 Jun 1964; POB Egypt; citizen Egypt (individual) [SDGT].

4. SWEDAN, Sheikh Ahmed Salim (a.k.a. ALLY, Ahmed; a.k.a. SUWEIDAN, Sheikh Ahmad Salem; a.k.a. SWEDAN, Sheikh; a.k.a. SWEDAN, Sheikh Ahmed Salem; a.k.a. “AHMED THE TALL”; a.k.a. “BAHAMAD”; a.k.a. “BAHAMAD, Sheik”; a.k.a. “BAHAMADI, Sheikh”); DOB 09 Apr 1969; alt. DOB 09 Apr 1960; POB Mombasa, Kenya; citizen Kenya (individual) [SDGT].

5. DARWISH, Sulayman Khalid (a.k.a. “ABU AL-GHADIYA”), Syria; DOB 1976; alt. DOB circa 1974; POB Outside Damascus, Syria; nationality Syria; Passport 3936712 (Syria); alt. Passport 11012 (Syria) (individual) [SDGT].

The removal of these individuals names from the SDN List is effective as of February 5, 2013. All property and interests in property of the individuals that are in or hereafter come within the United States or the possession or control of United States persons are now unblocked.

Dated: February 5, 2013.
Adam J. Szubin,
Director, Office of Foreign Assets Control.

[FR Doc. 2013-03170 Filed 2-11-13; 8:45 am]

BILLING CODE 4810-AL-P